DEPARTMENT OF COMMERCE

International Trade Administration

A-570-863

Honey from the People's Republic of China: Final Results and Final Rescission, In Part, of Antidumping Duty Administrative Review

AGENCY: Import Administration, International Trade Administration, Department of Commerce.

SUMMARY: On December 16, 2005, the Department published the Preliminary Results of the third administrative review of the antidumping duty order on honey from the People's Republic of China (PRC). Honey from the People's Republic of China: Preliminary Results and Partial Rescission of Antidumping Duty Administrative Review, 70 FR 74764 (December 16, 2005) (Preliminary Results). This review covers eight exporters or producer/exporters: (1) Anhui Honghui Honghui Foodstuff (Group) Co., Ltd. (Anhui Honghui); (2) Jiangsu Kanghong Natural Healthfoods Co., Ltd. (Jiangsu Kanghong); (3) Jinfu Trading Co., Ltd. (Jinfu); (4) Shanghai Eswell Enterprise Co., Ltd. (Eswell); (5) Zhejiang Native Produce and Animal By-Products Import & Export Group Corp. (Zhejiang); (6) Chengdu Waiyuan Bee Products Co., Ltd. (Chengdu Waiyuan); (7) Eurasia Bee's Products Co., Ltd. (Eurasia); and (8) Sichuan-Dujiangyan Dubao Bee Industrial Co., Ltd. (Dubao). The period of review (POR) is December 1, 2003, through November 30, 2004. We have made changes to certain surrogate values based on our analysis of the record, including factual information obtained since the Preliminary Results. Therefore, the final results differ from the Preliminary Results. See “Final Results of Review” section below.

EFFECTIVE DATE: June 16, 2006.

FOR FURTHER INFORMATION CONTACT: Kristina Boughton or Bobby Wong, AD/CVD Operations, Office 9, Import Administration, International Trade Administration, U.S. Department of Commerce, 14th Street and Constitution Avenue, NW, Washington, DC 20230; telephone: (202) 482-8173 or (202) 482-0409, respectively.

SUPPLEMENTARY INFORMATION:

Background

We published in the Federal Register the Preliminary Results of the third administrative review on December 16, 2005. Preliminary Results. The POR is December 1, 2003, through November 30, 2004.

Since the Preliminary Results the following events have occurred:

On January 3, 2006, we extended the time limit for submitting further information to value the factors of production until February 2, 2006. On February 2, 2006, we received surrogate value submissions from Anhui Honghui, Jiangsu Kanghong, and Zhejiang (collectively, GDLSK respondents), from Eswell, and from the American Honey Producers Association and the Sioux Honey Association (collectively, petitioners). On February 13, 2006, we received a rebuttal surrogate value submission from the GDLSK respondents. On February 7, 2006, we invited parties to comment in their briefs on reclassifying employee benefits (i.e., pension and social security expenses) from direct labor to manufacturing overhead in the calculation of financial ratios.

We invited parties to comment on our Preliminary Results. We received case briefs from the GDLSK respondents and Eswell on February 21, 2006. We received a rebuttal brief from the petitioners on February 28, 2006.

Scope of the Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this order is currently classifiable under subheadings 0409.00.00, 1702.90.90, and 2106.90.99 of the Harmonized Tariff Schedule of the United States (HTSUS). Although the HTSUS subheadings are provided for convenience and customs purposes, the Department's written description of the merchandise under the order is dispositive.

Partial Rescission of Administrative Review

In the Preliminary Results, the Department issued a notice of intent to rescind this administrative review with respect to Chengdu Waiyuan, as we found that there were no entries of subject merchandise during the POR. Preliminary Results, 70 FR at 74765. The Department received no comments on this issue and has no evidence to challenge this finding. Therefore, the Department is rescinding this administrative review with respect to Chengdu Waiyuan.

Separate Rates

Anhui Honghui, Jiangsu Kanghong, Jinfu, Eswell, Zhejiang, and Eurasia requested separate, company-specific antidumping duty rates. In the Preliminary Results, we found that Anhui Honghui, Jiangsu Kanghong, Jinfu, Eswell, and Zhejiang had met the criteria for the application of a separate antidumping duty rate. Preliminary Results, 70 FR at 74768. Also in the Preliminary Results, we found that Eurasia and Dubao did not respond in a complete and timely manner to the Department's requests for information, and hence do not qualify for separate rates, but rather are appropriately considered to be part of the PRC-wide entity. Id. The Department did not receive comments on this issue prior to these final results. See also “The PRC-Wide Rate and Application of Facts Otherwise Available” section below.

We have not received any information since the Preliminary Results with respect to Anhui Honghui, Jiangsu Kanghong, Jinfu, Eswell, and Zhejiang that would warrant reconsideration of our separate-rates determination with respect to these companies. Therefore, we have assigned individual dumping margins to Anhui Honghui, Jiangsu Kanghong, Jinfu, Eswell, and Zhejiang for this review period.

Analysis of Comments Received

All issues raised in the briefs are addressed in the Issues and Decision Memorandum for the Final Results in the 2003-2004 Administrative Review of Honey from the People's Republic of China from Stephen J. Claeys, Deputy Assistant Secretary, to David M. Spooner, Assistant Secretary, dated June 9, 2006 (Issues and Decision Memorandum), which is hereby adopted by this notice. A list of the issues raised, all of which are in the Issues and Decision Memorandum, is attached to this notice as Appendix I. Parties can find a complete discussion of all issues raised in the briefs and the corresponding recommendations in this public memorandum, which is on file in the Central Records Unit (CRU), room B-099 of the Department of Commerce. In addition, a complete version of the Issues and Decision Memorandum can be accessed directly on the Web at http://trade.gov/ia. The paper copy and electronic version of the Issues and Decision Memorandum are identical in content.

Changes since the Preliminary Results

Based on the comments received from the interested parties, we have made company-specific changes to certain surrogate value calculations that affect the margin calculations for Eswell. For a discussion of these changes, see the Issues and Decision Memorandum, at Comment 8.

For the final results, we revised our calculation of surrogate financial ratios for factory overhead, selling, general and administrative expenses, and profit, to use the more contemporaneous 2004/2005 annual report from the Mahabaleshwar Honey Producers Cooperative, and applied these new ratios in our margin calculations. We also revised our calculation of the financial ratios by reclassifying employee benefits into overhead, consistent with recent Department determinations. See, e.g., Folding Metal Tables and Chairs from the People's Republic of China: Final Results of Antidumping Duty Administrative Review, 71 FR 2905 (January 18, 2006), and accompanying Issues and Decision Memorandum, at Comment 1B See also Issues and Decision Memorandum, at Comments 2, 3, and 6.

The PRC-wide rate has also changed for the final results, from 183.80 percent to 212.39 percent, which represents the calculated rate for Anhui Honghui in these final results and is the highest rate determined in the instant or any previous segment of this proceeding. We will apply the new PRC-wide rate of 212.39 percent to the PRC-wide entity (including Eurasia and Dubao) for the final results. See “The PRC-Wide Rate and Application of Facts Otherwise Available” section below. Corroboration of the new PRC-wide rate is not required because this rate is based on, and calculated from, information obtained in the course of this administrative review, i.e., it is not secondary information. See 19 CFR 351.308(c) and (d) and section 776(c) of the Tariff Act of 1930, as amended (the Act).

The PRC-Wide Rate and Application of Facts Otherwise Available

As explained above, Anhui Honghui, Jiangsu Kanghong, Jinfu, Eswell, and Zhejiang (collectively, separate rate companies) each have obtained a separate rate. The PRC-wide rate applies to all entries of subject merchandise except for entries from PRC producers/exporters that have their own calculated rate. See “Separate Rates” section above.

PRC-wide Entity (including Eurasia and Dubao):

The Department did not receive comments on its preliminary determination to apply adverse facts available (AFA) to the PRC-wide entity (including Eurasia and Dubao) and has no evidence to challenge this finding. Therefore, we have not altered our decision to apply total AFA to the PRC-wide entity (including Eurasia and Dubao) for these final results, in accordance with sections 776(a)(2)(A) and (B) and section 776(b) of the Act. For a complete discussion of the Department's decision to apply total AFA to the PRC-wide entity (including Eurasia and Dubao), see Preliminary Results, 70 FR at 74768-74769.

Final Results of Review

We determine that the following antidumping duty margins exist:

Exporter | Margin (percent)
Anhui Honghui Foodstuffs (Group) Co., Ltd. | 212.39%
Jiangsu Kanghong Natural Healthfoods Co., Ltd. | 210.53%
Jinfu Trading Co., Ltd. | 168.88%
Shanghai Eswell Enterprise Co., Ltd. | 168.30%
Zhejiang Native Produce and Animal By-Products Import & Export Group Corp. | 169.11%
PRC-Wide Rate (including Sichuan-Dujiangyan Dubao Bee Industrial Co., Ltd. and Eurasia's Bee Products Co., Ltd.) | 212.39%

For details on the calculation of the antidumping duty weighted-average margin for each company, see the respective company's analysis memorandum for the final results of the third administrative review of the antidumping duty order on honey from the PRC, dated June 9, 2006. Public versions of these memoranda are on file in the CRU.

Assessment of Antidumping Duties

Pursuant to 19 CFR 351.212(b), the Department will determine, and U.S. Customs and Border Protection (CBP) shall assess, antidumping duties on all appropriate entries. The Department will issue appropriate assessment instructions directly to CBP within 15 days of publication of these final results of review. For assessment purposes, where possible, we calculated importer-specific assessment rates for honey from the PRC on a per-unit basis. Specifically, we divided the total dumping margins (calculated as the difference between normal value and export price or constructed export price) for each importer by the total quantity of subject merchandise sold to that importer during the POR to calculate a per-unit assessment amount. We will direct CBP to levy importer-specific assessment rates based on the resulting per-unit (i.e., per-kilogram) rates by the weight in kilograms of each entry of the subject merchandise during the POR.

Cash Deposits

The following cash-deposit requirements will be effective upon publication of these final results for shipments of the subject merchandise entered, or withdrawn from warehouse, for consumption on or after the publication date of these final results, as provided by section 751(a)(2)(C) of the Act: (1) For subject merchandise exported by Anhui Honghui, Jiangsu Kanghong, Jinfu, Eswell, and Zhejiang, we will establish a per-kilogram cash deposit rate which will be equivalent to the company-specific cash deposit established in this review; (2) the cash deposit rate for PRC exporters who received a separate rate in a prior segment of the proceeding will continue to be the rate assigned in that segment of the proceeding (except for Eurasia, whose cash-deposit rate has changed in this review to the PRC-wide entity rate, as noted below); (3) for all other PRC exporters of subject merchandise which have not been found to be entitled to a separate rate (including Dubao and Eurasia), the cash-deposit rate will be the PRC-wide rate of 183.80 percent; and (4) for all non-PRC exporters of subject merchandise, the cash-deposit rate will be the rate applicable to the PRC supplier of that exporter.

These deposit requirements shall remain in effect until publication of the final results of the next administrative review.

Notification to Interested Parties

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (APO) of their responsibility concerning the return/destruction or conversion to judicial protective order of proprietary information disclosed under APO in accordance with

19 CFR 351.305(a)(3). Failure to comply is a violation of the APO.

This determination is issued and published in accordance with sections 751(a)(1) and 777(i)(1) of the Act.

Dated: June 9, 2006.
David M. Spooner,
Assistant Secretary for Import Administration.

Appendix I

List of Issues

General Issues

Comment 1: Appropriate Surrogate Value for Honey

Comment 2: Appropriate Surrogate Value for Financial Ratios

Comment 3: Calculation of the MHPC Financial Ratios

Comment 4: Brokerage and Handling Expenses

Comment 5: Calculation of the Surrogate Wage Rate

Comment 6: Calculation of Employee Benefits in Financial Ratios

Company-Specific Issues

Shanghai Eswell-Related Issues

Comment 7: Valuation of By-Product for Shanghai Eswell

Comment 8: Calculation of Indirect Selling Expenses for Shanghai Eswell

Jiangsu Kanghong-Related Issues

Comment 9: Appropriate Factors of Production to Value for Jiangsu Kanghong

[FR Doc. E6-9477 Filed 6-15-06; 8:45 am]

Billing Code: 3510-DS-S